DEPARTMENT OF TRANSPORTATION

Federal Aviation Administration

Notice of Intent of Waiver With Respect to Land; Indianapolis Regional Airport, Indianapolis, Indiana

AGENCY: Federal Aviation Administration (FAA), DOT.

ACTION: Notice.

SUMMARY: The FAA is considering a proposal to change 0.577 acres of airport land from aeronautical use to non-aeronautical use and to authorize the sale of airport property located at Indianapolis Regional Airport, Indianapolis, Indiana. The aforementioned land is not needed for aeronautical use. The land is made up of two parcels and is located along the County Road 600 in Hancock County, just east of Indianapolis Regional Airport, Indianapolis, Indiana. The Sponsor is proposing to release and ultimately sell the land for future public use.

DATES: Comments must be received on or before November 27, 2023.

ADDRESSES: All requisite and supporting documentation will be made available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241 Telephone: 317-487-5135.

Written comments on the Sponsor's request may be submitted using any of the following methods:

• Federal eRulemaking Portal: Go to http://www.regulations.gov, and follow the instructions for sending your comments electronically.

• Mail: Melanie Myers, Program Manager, Federal Aviation Administration, Chicago Airports District Office, 2300 East Devon Avenue, Des Plaines, Illinois 60018. Telephone: (847) 294-7525/Fax: (847) 294-7046.

• Hand Delivery: Deliver to mail address above between 8 a.m. and 5 p.m. Monday through Friday, excluding Federal holidays.

• Fax: (847) 294-7046.

FOR FURTHER INFORMATION CONTACT: Melanie Myers, Program Manager, Federal Aviation Administration, Chicago Airports District Office, 2300 East Devon Avenue, Des Plaines, Illinois 60018. Telephone: (847) 294-7525/Fax: (847) 294-7046.

SUPPLEMENTARY INFORMATION: In accordance with section 47107(h) of title 49, United States Code, this notice is required to be published in the Federal Register 30 days before modifying the land-use assurance that requires the property to be used for an aeronautical purpose.

The land consists of two original airport acquired parcels. The parcels were acquired under Airport Development Aid Program ADAP-02 grant number 5-18-0037-02. The Sponsor is proposing to change the land from aeronautical use to non-aeronautical use and intends to ultimately sell the land at fair market value to Hancock County to widen County Road 600 for construction of roadway traffic circles. This is currently vacant land and is not needed for aeronautical purposes.

The disposition of proceeds from any future sale of the airport property will be in accordance with FAA's Policy and Procedures Concerning the Use of Airport Revenue, published in the Federal Register on February 16, 1999 (64 FR 7696).

This notice announces that the FAA is considering the release of the subject airport property at the Indianapolis Regional Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

A part of the Southwest Quarter of Section 7, Township 16 North, Range 6 East, Hancock County, Indiana, and being that part of the grantor's land lying within the right-of-way lines depicted on the attached Right-of-Way Parcel Plat, marked Exhibit “B”, described as follows: Commencing at the southwest closing corner of said section, designated by point “48” on the Location Control Route Survey Plat recorded in Instrument 100004410 Surv. in the Office of the Recorder of said county, thence North 89 degrees 24 minutes 16 seconds East 69.96 feet along the south line of the said section to the west line of the grantor's land and the east boundary of County Road 600 West; thence North 00 degrees 14 minutes 09 seconds West 8.60 feet along the boundary of said County Road 600 West; thence North 01 degree 11 minutes 33 seconds West 265 .47 feet along said boundary; thence North 01 degree 03 minutes 25 seconds West 160.63 feet along said boundary to the point of beginning of this description, designated by point “969” on said Parcel Plat; thence North 01 degree 03 minutes 25 seconds West 5.35 feet along the west line of the grantor's land and the boundary of said county road; thence North 00 degrees 28 minutes 35 seconds West 273.65 feet along the west line of the grantor's land and the boundary of said county road to point “962” designated on said Parcel Plat; thence South 13 degrees 35 minutes 05 seconds East 74.95 feet to point “963” designated on said Parcel Plat; thence South 84 degrees 37 minutes 39 seconds East 40.66 feet to point “964” designated on said Parcel Plat; thence North 70 degrees 28 minutes 47 seconds East 57.00 feet to point “965” designated on said Parcel Plat; thence South 19 degrees 31 minutes 20 seconds East 78.00 feet to point “966” designated on said Parcel Plat; thence South 61 degrees 00 minutes 55 seconds West 54.74 feet to point “967” designated on said Parcel Plat; thence South 33 degrees 51 minutes 05 seconds West 95.18 feet to point “968” designated on said Parcel Plat; thence South 39 degrees 17 minutes 08 seconds West 54.64 feet to the point of beginning and containing 0.388 acres, more or less.

A part of the Northwest Quarter of Section 18, Township 16 North, Range 6 East, Hancock County, Indiana, and being that part of the grantor's land lying within the right-of-way lines depicted on the attached Right-of-Way Parcel Plat, marked Exhibit “B”, described as follows: Beginning on the north line of the said section North 89 degrees 24 minutes 16 seconds East 69.96 feet from the northwest closing corner of said section, designated by point “48” on the Location Control Route Survey Plat recorded in Instrument 100004410 Surv. in the Office of the Recorder of said county, which point of beginning is on the west line of the grantor's land and the east boundary of County Road 600 West; thence continuing North 89 degrees 24 minutes 16 seconds East 37.91 feet along the north line of said section line; thence South 00 degrees 19 minutes 33 seconds East 117.07 feet to point “972” designated on said Parcel Plat; thence South 31 degrees 46 minutes 08 seconds West 71.88 feet to the west line of the grantor's land and the east boundary of said County Road 600 West; thence North 00 degrees 14 minutes 09 seconds West 177.79 feet along the east boundary of County Road 600 West to the point of beginning and containing 0.129 acres, more or less.

A part of the Southwest Quarter of Section 7, Township 16 North, Range 6 East, Hancock County, Indiana, and being that part of the grantor's land lying within the right-of-way lines depicted on the attached Right-of-Way Parcel Plat, marked Exhibit “B”, described as follows: Beginning on the south line of the said section North 89 degrees 24 minutes 16 seconds East 69.96 feet from the southwest closing corner of said section, designated by point “48” on the Location Control Route Survey Plat recorded in Instrument 100004410 Surv. in the Office of the Recorder of said county, which point of beginning is on the west line of the grantor's land and the east boundary of County Road 600 West; thence North 00 degrees 14 minutes 09 seconds West 8.60 feet along the west line of the grantor's land and the boundary of said county road; thence North 01 degree 11 minutes 33 seconds West 83.08 feet along the boundary of said County Road to point “970” designated on said Parcel Plat; thence South 40 degrees 47 minutes 45 seconds East 60.33 feet to point “971” designated on said Parcel Plat; thence South 00 degrees 19 minutes 33 seconds East 45.60 feet to the south line of said section; thence South 89 degrees 24 minutes 16 seconds West 37.91 feet along the south line of said section to the point of beginning and containing 0.060 acres, more or less.

Issued in Des Plaines, Illinois on October 24, 2023.
Debra L. Bartell,
Manager, Chicago Airports District Office, FAA, Great Lakes Region.

[FR Doc. 2023-23752 Filed 10-26-23; 8:45 am]

BILLING CODE 4910-13-P